DEPARTMENT OF EDUCATION

[CFDA Nos.: 84.133B-1, 84.133B-5, 84.133B-7]

Office of Special Education and Rehabilitative Services.

National Institute on Disability and Rehabilitation Research—Rehabilitation Research and Training Centers (RRTC) Program; Notice inviting applications for fiscal year (FY) 2003.

Purpose of the Program: The purpose of the RRTC program is to improve the effectiveness of services authorized under the Rehabilitation Act of 1973 (the Act), as amended. We intend these priorities to improve the rehabilitation services and outcomes for individuals with disabilities.

In order to provide applicants with a 60-day application period and to ensure that these grants are awarded before the end of FY 2003, the National Institute on Disability and Rehabilitation Research (NIDRR) is inviting applications based on the proposed priorities. NIDRR will publish the final priorities after the comment period closes on June 9, 2003.

Depending upon the comments that NIDRR receives, the final priorities may include revisions to the proposed priorities. It is generally the policy of the Department of Education not to solicit applications before the publication of a final priority. However, in this case, it is essential to solicit applications on the basis of these proposed priorities in order to allow applicants sufficient time to prepare applications of appropriate quality to be funded. Applicants are advised to begin to develop their applications based on the proposed priorities. If changes are made in the final priorities, applicants will be given an opportunity to revise or resubmit their applications.

Eligible Applicants: Parties eligible to apply for grants under this program are States; public or private agencies, including for-profit agencies; public or private organizations, including for-profit organizations; institutions of higher education; and Indian tribes and tribal organizations.

Applicable Regulations: (a) The Education Department General Administrative Regulations (EDGAR), 34 CFR parts 74, 75, 77, 80, 81, 82, 85, 86, and 97, and (b) The program regulations 34 CFR part 350.

Indirect Cost Rate: An applicant for an RRTC is limited to an indirect rate of 15 percent.

Letter of Intent: The due date for the Letter of Intent has been extended to June 18, 2003.

Rehabilitation Research and Training Centers (84.133B)
[Applications for FY 2003]
CFDA No./program name | Application available | Deadline for transmittal of applications | Estimated available funds | Maximum award amount (per year) * | Estimated number of awards ** | Project period (months)
84.133B-1 Disability Demographics and Statistics | May 29, 2003 | July 28, 2003 | $750,000 | $750,000 | 1 | 60
84.133B-5 Community Integration Outcomes | May 29, 2003 | July 28, 2003 | 2,400,000 | 600,000 | 4 | 60
84.133B-7 Health and Function | May 29, 2003 | July 28, 2003 | 200,000 | 600,000 | 7 | 60
* Note: We will reject without consideration any application that proposes a budget exceeding the stated maximum award amount in any year (See 34 CFR 75.104(b)).
** The Department is not bound by any estimates in this notice.

Priorities

This competition focuses on projects designed to meet the priorities in the notice of proposed priorities for the programs published in the Federal Register on May 9, 2003. (Note: See individual priority for Federal Register cite.) Under 34 CFR 75.105 (c)(3) we consider only applications that meet one or more of the following priorities. A separate application is required for each priority area.

Absolute Priority 1—Disability Demographics and Statistics Center (84.133B-1) (68 FR 25004)

Absolute Priority 2—Community Integration Outcomes Centers (84.133B-5) (68 FR 25019)

Absolute Priority 3—Health and Function Centers (84.133B-7) (68 FR 25011)

Selection Criteria

The selection criteria to evaluate applications under these priorities are included in the application package.

For Applications Contact: Education Publications Center (ED Pubs), PO Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html, or you may contact ED Pubs at its e-mail address: edpubs@inet.ed.gov.

If you request an application from ED Pubs, be sure to identify these competitions as follows: CFDA number 84.133B-1, 84.133B-5, or 84.133B-7.

Application Procedures

Note: Some of the procedures in these instructions for transmitting applications differ from those in the 34 CFR 75.102. Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project for electronic submission of applications to include additional formula grant programs and additional discretionary grant competitions. The Rehabilitation Research and Training Centers (RRTC) program—CFDA #84.133B is one of the programs included in the pilot project. If you are an applicant under the RRTC program, you may submit your application to us in either electronic or paper format.

The pilot project involves the use of the Electronic Grant Application System (e-Application) portion of the Grant Administration and Payment System (GAPS). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Assistance (ED 424) to the Application Control Center after following these steps:

(1) Print ED 424 from the e-Application system.

(2) The institution's Authorizing Representative must sign this form.

(3) Place the PR/Award number in the upper right hand corner of the hard copy signature page of the ED 424.

(4) Fax the signed ED 424 to the Application Control Center at (202) 260-1349.

• We may request that you give us original signatures on all other forms at a later date.

• Closing Date Extension in Case of System Unavailability: If you elect to participate in the e-Application pilot for the RRTC program and you are prevented from submitting your application on the closing date because the e-Application system is unavailable, we will grant you an extension of one business day in order to transmit your application electronically, by mail, or by hand delivery. For us to grant this extension—

(1) You must be a registered user of e-Application, and have initiated an e-Application for this competition; and

(2)(a) The e-Application system must be unavailable for 60 minutes or more between the hours of 8:30 a.m. and 3:30 p.m., Washington, DC time, on the deadline date; or

(b) The e-Application system must be unavailable for any period of time during the last hour of operation (that is, for any period of time between 3:30 and 4:30 p.m., Washington, DC time) on the deadline date. The Department must acknowledge and confirm these periods of unavailability before granting you an extension. To request this extension you must contact either (1) the person listed elsewhere in this notice under FOR FURTHER INFORMATION CONTACT or (2) the e-GRANTS help desk at 1-888-336-8930.

You may access the electronic grant application for the RRTC program at: http://e-grants.ed.gov.

We have included additional information about the e-Application pilot project (see Parity Guidelines between Paper and Electronic Applications) in the application package.

Pre-Application Meeting: Interested parties are invited to participate in a pre-application meeting to discuss the funding priorities and to receive information and technical assistance through individual consultation about the funding priorities. The pre-application meeting will be held on June 27, 2003 either in person or by conference call at the Department of Education, Office of Special Education and Rehabilitative Services, Switzer Building, room 3065, 330 C Street, SW., Washington, DC between 10 a.m. and 12 noon. NIDRR staff will also be available from 1:30 p.m. to 4 p.m. on that same day to provide information and technical assistance through individual consultation about the funding priority. For further information or to make arrangements to attend contact Donna Nangle, Switzer Building, room 3412, 330 C Street, SW., Washington, DC 20202. Telephone (202) 205-5880 or via Internet: donna.nangle@ed.gov.

If you use a telecommunications device for the deaf (TDD), you may call (202) 205-4475.

Assistance to Individuals With Disabilities at the Public Meetings

The meeting site is accessible to individuals with disabilities, and a sign language interpreter will be available. If you will need an auxiliary aid or service other than a sign language interpreter in order to participate in the meeting (e.g., other interpreting service such as oral, cued speech, or tactile interpreter; assistive listening device; or materials in alternate format), notify the contact person listed in this notice at least two weeks before the scheduled meeting date. Although we will attempt to meet a request we receive after this date, we may not be able to make available the requested auxiliary aid or service because of insufficient time to arrange it.

FOR FURTHER INFORMATION CONTACT: Donna Nangle, U.S. Department of Education, 400 Maryland Avenue, SW., room 3412, Switzer Building, Washington, DC 20202-2645.

Telephone: (202) 205-5880 or via Internet: Donna.Nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

Electronic Access to this Document

You may review this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 29 U.S.C. 762(g) and 764(b)(2).

Dated: May 23, 2003.
Robert H. Pasternack,
Assistant Secretary for Special Education and, Rehabilitative Services.

[FR Doc. 03-13395 Filed 5-28-03; 8:45 am]

BILLING CODE 4000-01-P